DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for 8 of its 13 national marine sanctuary advisory councils and for the Northwestern Hawaiian Islands Coral Reef Ecosystem Reserve Advisory Council (advisory councils). Vacant seats, including positions (i.e., primary member and alternate), for each of the advisory councils are listed in this notice under Supplementary Information. Applicants are chosen based upon their particular expertise and experience in relation to the seat for which they are applying; community and professional affiliations; philosophy regarding the protection and management of marine resources; and possibly the length of residence in the area affected by the sanctuary. Applicants who are chosen as primary members or alternates should expect to serve two- or three year terms, pursuant to the charter of the specific national marine sanctuary advisory council or the Northwestern Hawaiian Islands Coral Reef Ecosystem Reserve Advisory Council.

DATES: Applications are due by September 30, 2013.

ADDRESSES: Application kits are specific to each advisory council. As such, application kits must be obtained from and returned to the council-specific addresses noted below.

• Cordell Bank National Marine Sanctuary Advisory Council: Kaitlin Graiff, Cordell Bank National Marine Sanctuary, P.O. Box 159, Olema, CA 94950; (415) 663-0314 extension 105; email Kaitlin.Graiff@noaa.gov; or download application from http://cordellbank.noaa.gov/.

• Florida Keys National Marine Sanctuary Advisory Council: Hannah Weddington, Florida Keys National Marine Sanctuary, 33 East Quay Rd., Key West, FL 33040; (305) 809-4700 extension 241; email hannah.weddington@noaa.gov; or download application from http://floridakeys.noaa.gov/.

• Gulf of the Farallones National Marine Sanctuary Advisory Council: Leslie Abramson, Gulf of the Farallones National Marine Sanctuary, 991 Marine Drive, The Presidio, San Francisco, CA 94129; 415-561-6622 extension 306; email Leslie.Abramson@noaa.gov; or download application from: http://farallones.noaa.gov/manage/sac.html.

• Hawaiian Islands Humpback Whale National Marine Sanctuary Advisory Council: Malia Chow, 6600 Kalaniana'ole Hwy, Suite 301, Honolulu, HI 96825; (808) 397-2651 extension 251; email Malia.Chow@noaa.gov; or download application from http://hawaiihumpbackwhale.noaa.gov/council/council_application.html.

• Monitor National Marine Sanctuary Advisory Council: Shannon Ricles, Monitor National Marine Sanctuary, 100 Museum Drive, Newport News, VA 23606; (757) 591-7328; email Shannon.Ricles@noaa.gov; or download application from http://monitor.noaa.gov.

• National Marine Sanctuary of American Samoa Advisory Council: Joseph Paulin, National Marine Sanctuary of American Samoa, Tauese P.F. Sunia Ocean Center, Utulei, American Samoa; (684) 633-6500 extension 226; email joseph.paulin@noaa.gov; or download application from http://americansamoa.noaa.gov.

• Northwestern Hawaiian Islands Coral Reef Ecosystem Reserve Advisory Council: Katie Gentry, Office of National Marine Sanctuaries, Pacific Island Region, 6600 Kalaniana'ole Hwy, #300, Honolulu, HI 96825; (808) 694-3936; email Katie.Gentry@noaa.gov; or download application from http://www.papahanaumokuakea.gov/council/welcome.

• Olympic Coast National Marine Sanctuary Advisory Council: Karlyn Langjahr, Olympic Coast National Marine Sanctuary, 115 East Railroad Ave., Suite 101, Port Angeles, WA 98362; (360) 457-6622 extension 31; email Karlyn.Langjahr@noaa.gov; or download application from http://olympiccoast.noaa.gov/involved/sac/sac_welcome.html.

• Stellwagen Bank National Marine Sanctuary Advisory Council: Elizabeth Stokes, Stellwagen Bank National Marine Sanctuary, 175 Edward Foster Road, Scituate, MA 02066; (781) 545-8026 extension 201; email Elizabeth.Stokes@noaa.gov; or download application from http://stellwagen.noaa.gov/.

FOR FURTHER INFORMATION CONTACT: For further information on a particular national marine sanctuary advisory council, please contact the individual identified in the Addresses section of this notice.

SUPPLEMENTARY INFORMATION: ONMS serves as the trustee for 14 marine protected areas encompassing more than 170,000 square miles of ocean and Great Lakes waters from the Hawaiian Islands to the Florida Key, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries and the Papahānaumokuākea Marine National Monument on issues including management, science, service, and stewardship; and to serve as liaisons between their constituents in the community and the sanctuary. Additional information on ONMS and its 14 advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the national marine sanctuary advisory councils currently seeking applications for primary members and alternates:

Cordell Bank National Marine Sanctuary Advisory Council: Fishing (primary member); Fishing (alternate); and Education (alternate).

Florida Keys National Marine Sanctuary Advisory Council: Boating Industry (primary member); Citizen at Large—Upper Keys (primary member); Citizen at Large—Upper Keys (alternate); Diving—Upper Keys (primary member); Diving—Upper Keys (alternate); Fishing—Charter Sports Fishing (primary member); Fishing—Charter Sports Fishing (alternate); Fishing—Recreational (primary member); Fishing—Recreational (alternate); Research and Monitoring (primary member); Research and Monitoring (alternate); Tourism—Lower Keys (primary member); and Tourism—Lower Keys (alternate).

Gulf of the Farallones National Marine Sanctuary Advisory Council: Education (primary member); and Education (alternate).

Hawaiian Islands Humpback Whale National Marine Sanctuary Advisory Council: Commercial Shipping (primary member); Commercial Shipping (alternate); Whale Watching (primary member); Whale Watching (alternate); Ocean Recreation (primary member); Ocean Recreation (alternate); Business/Commerce (primary member); Business/Commerce (alternate); Citizen-at-Large (primary member); Citizen-at-Large (alternate); Conservation (primary member); Conservation (alternate); Tourism (primary member); Tourism (alternate); Lāna`i Island (primary member); Lāna`i Island (alternate); Moloka`i Island (primary member); Moloka`i Island (alternate); Youth (primary member); Youth (alternate); Native Hawaiian (alternate); Research (alternate); Honolulu County (alternate); and Hawai'i County (alternate).

Monitor National Marine Sanctuary Advisory Council: Recreational Diving (primary member); Heritage Tourism (primary member); and Citizen-At-Large (primary member).

National Marine Sanctuary of American Samoa Advisory Council: Community-At-Large: Tutuila East Area (primary member); Community-At-Large: Manu'a Area (primary member); Education (primary member); Commercial Fishing (primary member); and Ocean Recreation/Ocean-Centered Eco-Tourim (primary member).

Northwestern Hawaiian Islands Coral Reef Ecosystem Reserve Advisory Council: Native Hawaiian, Elder (alternate); and Native Hawaiian (alternate).

Olympic Coast National Marine Sanctuary Advisory Council: Conservation (primary member); and Tourism/Economic Development (primary member).

Stellwagen Bank National Marine Sanctuary Advisory Council: Research (2 primary members); Conservation (primary member); Education (alternate); Marine Transportation (primary member); Marine Transportation (alternate); Recreational Fishing (primary member); Recreational Fishing (alternate); Mobile Gear Commercial Fishing (primary member); Business Industry (alternate); At Large (primary member); At Large (alternate); Youth (primary member); and Youth (alternate).

Authority: 16 U.S.C. 1431, et seq.

(Federal Domestic Assistance Catalog Number 11.429 Marine Sanctuary Program)

Dated: July 23, 2013.
Daniel J. Basta,
Director, Office of National Marine Sanctuaries, National Ocean Service, National Oceanic and Atmospheric Administration.

[FR Doc. 2013-19744 Filed 8-14-13; 8:45 am]

BILLING CODE 3510-NK-P